DEPARTMENT OF HEALTH AND HUMAN SERVICES

Substance Abuse and Mental Health Services Administration

Center for Substance Abuse Prevention; Notice of Meeting

Pursuant to Public Law 92-463, notice is hereby given of the meeting of the Substance Abuse and Mental Health Services Administration (SAMHSA) Center for Substance Abuse Prevention (CSAP) National Advisory Council in October 2004.

The meeting is open and includes discussion of the Center's policy issues and current administrative, legislative, and program developments. The CSAP Director will provide the Council with an update on SAMHSA/CSAP activities. The meeting will also include presentations on CSAP's National Registry for Effective Programs and Practices and Centers for the Application of Prevention Technology, and a report on the Prevention Platform. Presentations from the Drug Enforcement Administration on its National Prevention Partners initiative, the Community Anti-Drug Coalitions of America on the National Coalition Institute initiative, and the National Institute of Drug Abuse National Evaluation of Drug Free Communities will also be provided. In addition, the agenda will include a period for Council members to address the members on the Bi-National Border Institute, and on a new national prevention program in the fight against youth drug abuse (Parent Corps).

Attendance by the public will be limited to space available. Public comments are welcome. Please communicate with the individual listed as contact below to make arrangements to comment or to request special accommodations for persons with disabilities.

A roster of Council members may be obtained by communicating with the contact listed below. To ensure that all interested parties receive information presented at the CSAP Council meeting, the transcript for the meeting will be available on the following Web site http://www.samhsa.gov/council/csap/csapnac.aspx as soon as possible after the meeting.

Committee Name: Substance Abuse and Mental Health Services Administration Center for Substance Abuse Prevention National Advisory Council.

Date/Time: Tuesday, October 5, 2004, 9 a.m. to 5 p.m. Wednesday, October 6, 2004, 9 a.m. to 11:45 a.m.

Place: Times Building, One Times Square, Third Floor, New York, New York 10036.

Type: Open session.

Contact: Marlene Passero, Committee Management Specialist, 1 Choke Cherry Road, Room 4-1006, Rockville, Maryland 20857, Telephone: (240) 276-2435.

Dated: September 20, 2004.
Toian Vaughn,
Committee Management Officer, Substance Abuse and Mental Health Services Administration.

[FR Doc. 04-21569 Filed 9-24-04; 8:45 am]

BILLING CODE 4162-20-P